DEPARTMENT OF LABOR

Employment and Training Administration

[TA-W-50,150 and TA-W-50,150C]

Thomasville Furniture Industries, Inc., Plant B, Thomasville, NC and Thomasville Furniture Industries, Inc. Corporate Office, Thomasville, NC; Amended Certification Regarding Eligibility to Apply for Worker Adjustment Assistance

In accordance with Section 223 of the Trade Act of 1974 (19 U.S.C. 2273) the Department of Labor issued a Notice of Certification Regarding Eligibility to Apply for Worker Adjustment Assistance on March 10, 2003, applicable to workers of Thomasville Furniture Industries, Inc., Plant B, Thomasville, North Carolina. The notice was published in the Federal Register on March 26, 2003 (68 FR 14707).

At the request of the company, the Department reviewed the certification for workers of the subject firm. The workers are engaged in the production of residential wood household furniture.

The company reports that worker separations occurred at the Corporate Office, Thomasville, North Carolina location of the subject firm. The Corporate Office workers provide administrative, sales, marketing, and customer service functions for the subject firm's production plants also located in Thomasville, North Carolina.

Based on these findings, the Department is amending the certification to include workers of the Thomasville Furniture Industries, Inc., Corporate Office, Thomasville, North Carolina.

The intent of the Department's certification is to include all workers of Thomasville Furniture Industries, Inc. who were adversely affected by increased imports.

The amended notice applicable to TA-W-50,150 is hereby issued as follows:

All workers of Thomasville Furniture Industries, Inc., Plant B, Thomasville, North Carolina (TA-W-50,150), Plant #, Thomasville, North Carolina (TA-W-50,150A), Plant SFD, Thomasville, North Carolina (TA-W-50,150B), and Corporate Office, Thomasville, North Carolina, who became totally or partially separated from employment on or after November 20, 2001, through March 10, 2005, are eligible to apply for adjustment assistance under Section 223 of the Trade Act of 1974.

Signed at Washington, DC this 8th day of October 2003.
Richard Church,
Certifying Officer, Division of Trade Adjustment Assistance.

[FR Doc. 03-29134 Filed 11-20-03; 8:45 am]

BILLING CODE 4510-30-P